SECURITIES AND EXCHANGE COMMISSION

Issuer Delisting; Notice of Application To Withdraw From Listing and Registration; (Resource Bankshares Corporation, Common Stock, $1.50 Par Value) File No. 1-14319

December 11, 2000.

Resource Bankshares Corporation, a Virginia corporation (“Company”), has filed an application with the Securities and Exchange Commission (“Commission”), pursuant to Section 12(d) of the Securities Exchange Act of 1934 (“Act”) ¹ and Rule 12d2-2(d) thereunder,² to withdraw its Common Stock, $1.50 par value (“Security”), from listing and registration on the American Stock Exchange LLC (“Amex”).

¹ 15 U.S.C. 78l(d).

² 17 CFR 240.12d2-2(d).

Counsel for the Company has stated that the Security has been approved for quotation on the National Market of the Nasdaq Stock Market, Inc. (“Nasdaq National Market”), effective at the opening of business on Friday, December 15, 2000.³ The Amex will suspend trading in the Security on December 15, 2000, in conjunction with its being designated for quotation on the Nasdaq National Market. The Company made the decision to transfer its Security having determined that its long range plans for growth and investment will be better served by the dealer market of the Nasdaq National Market than by the auction market of the Amex.

³ Telephone conversation between T. Richard Litton Jr., Member, Kaufman & Canoles, and Matthew Boesch, Paralegal, Division of Market Regulation, Commission, on December 8, 2000.

The Company's application relates solely to the withdrawal of the Security from listing on the Amex and registration under Section 12(b) of the Act ⁴ and shall have no effect upon the Security's continued obligation to be registered under Section 12(g) of the Act.⁵

⁴ 15 U.S.C. 78l(b).

⁵ 15 U.S.C. 78l(g).

Any interested person may, on or before January 3, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁶
⁶ 17 CFR 200.30-3(a)(1).
Jonathan G. Katz,
Secretary.

[FR Doc. 00-31993 Filed 12-14-00; 8:45 am]

BILLING CODE 8010-01-M